LIBRARY OF CONGRESS

U.S. Copyright Office

[Docket No. 2014-2]

Notice of Room Change: Public Roundtable on the Right of Making Available

AGENCY: U.S. Copyright Office, Library of Congress.

ACTION: Notice of room change for public roundtable.

SUMMARY: The U.S. Copyright Office has changed the location of the May 5, 2014 public roundtable announced in the Office's February 25, 2014 Notice of Inquiry for its study on the rights of “making available” and “communication to the public.” The roundtable will be held in 2226 Rayburn House Office Building, Washington, DC 20515, from 9:00 a.m. to 5:00 p.m. EDT.

FOR FURTHER INFORMATION CONTACT: Maria Strong, Senior Counsel for Policy and International Affairs, by telephone at 202-707-1027 or by email at mstrong@loc.gov, or Kevin Amer, Counsel for Policy and International Affairs, by telephone at 202-707-1027 or by email at kamer@loc.gov.

SUPPLEMENTARY INFORMATION: On February 25, 2014, the Copyright Office published a Notice of Inquiry requesting public comments and announcing a May 5, 2014 public roundtable on the state of U.S. law recognizing and protecting “making available” and “communication to the public” rights for copyright holders. Interested members of the public were directed to submit written comments and to request participation in the public roundtable using forms posted on the Office's Web site.

The Office is announcing that the location of the public roundtable has been changed to 2226 Rayburn House Office Building, Washington, DC 20515. As previously scheduled, the roundtable will be held on May 5, 2014, from 9:00 a.m. to 5:00 p.m. EDT.

Individuals selected for participation in one or more roundtable sessions will be notified directly by the Office. The Office will post the agenda for the roundtable on or about April 28, 2014 at http://www.copyright.gov/docs/making_available/. Nonparticipants who wish to attend and observe the discussion should note that seating is limited and, for nonparticipants, will be available on a first come, first served basis.

Dated: April 23, 2014.
Maria A. Pallante,
Register of Copyrights.

[FR Doc. 2014-09656 Filed 4-28-14; 8:45 am]

BILLING CODE 1410-30-P